Presidential Determination No. 2001-21 of July 4, 2001

Provision of $20 Million for a U.S. Contribution to the

Korean Peninsula Energy Development Organization (KEDO)

Memorandum for the Secretary of State

Pursuant to the authority vested in me by section 614(a)(1) of the Foreign Assistance Act of 1961, as amended, 22 U.S.C. 2364(a)(1) (the “Act”), I hereby determine that it is important to the security interests of the United States to furnish up to $20 million in funds made available under the title II (Nonproliferation, Anti-Terrorism, Demining and Related Programs) of the Foreign Operations, Export Financing, and Related Programs Appropriations Act, 2001 (Public Law 106-429), for assistance for KEDO without regard to any provision of law within the scope of section 614(a)(1). I hereby authorize the furnishing of this assistance.

You are hereby authorized and directed to transmit this determination to the Congress and to arrange for its publication in the Federal Register.

B

THE WHITE HOUSE,

Washington, July 4, 2001.

[FR Doc. 01-17965

Filed 7-16-01; 8:45 am]

Billing code 4710-10-M